INTERNATIONAL TRADE COMMISSION

[Investigation No. 332-556]

Generalized System of Preferences: Possible Modifications, 2015 Review

AGENCY: United States International Trade Commission.

ACTION: Expansion of scope of the investigation.

SUMMARY: Following receipt of an amended request on January 12, 2016, from the United States Trade Representative (USTR), the U.S. International Trade Commission (Commission) has expanded the scope of investigation No. 332-556, Generalized System of Preferences: Possible Modifications, 2015 Review, to include five additional HTS statistical reporting numbers relating to certain handbags and travel goods products: 4202.92.30.20; 4202.92.30.31; 4202.92.30.91; 4202.92.90.26; and 4202.92.90.60. The USTR asked that the Commission provide its advice as to the probable economic effect on total U.S. imports, U.S. industries producing like or directly competitive articles, and on U.S. consumers of the elimination of U.S. import duties on these five articles for all beneficiary developing countries under the GSP program, least-developed beneficiary developing countries (LDBDCs), beneficiary developing countries of the African Growth and Opportunity Act (AGOA), and both LDBDCs and AGOA beneficiary developing countries combined under the GSP program. In his January 12, 2016 letter, the USTR also requested that the Commission provide its advice with respect to whether like or directly competitive products were being produced in the United States on January 1, 1995 for these additional 5 articles as well as for all of the products being considered for addition to and removal from the list of GSP-eligible products listed in Tables A and B of the Annex to the December 30, 2015 request letter.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Information specific to this investigation may be obtained from Mahnaz Khan, Project Leader, Office of Industries (202-205-2046 or mahnaz.khan@usitc.gov), Jessica Pugliese, Deputy Project Leader, Office of Industries (202-205-3064 or jessica.pugliese@usitc.gov), or Cynthia Foreso, Technical Advisor, Office of Industries (202-205-3348 or cynthia.foreso@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background

The Commission initially instituted this investigation in response to a request letter from the USTR dated December 30, 2015. The Commission published notice of institution of this investigation and the scheduling of a public hearing in the Federal Register on January 19, 2016 (81 FR 2904). As previously announced, the public hearing in this investigation will be held on February 24, 2016, and it will include the articles covered by the five additional HTS statistical reporting numbers as well as the articles described in the January 19, 2016 notice. The deadlines for filing requests to appear at the public hearing (February 1, 2016), pre-hearing briefs and statements (February 3, 2016), post-hearing briefs and all other written submissions in this investigation (February 29, 2016) remain the same as previously announced. All other information in the January 19, 2016, notice remains the same, including with respect to the procedures relating to the filing of written submissions and the submission of confidential business information.

The Commission expects to transmit its report to the USTR by April 28, 2016, the date indicated in the earlier notice).

By order of the Commission.
Issued: January 19, 2016.
Lisa R. Barton,
Secretary to the Commission.

[FR Doc. 2016-01267 Filed 1-21-16; 8:45 am]

BILLING CODE 7020-02-P